DEPARTMENT OF TRANSPORTATION

Federal Aviation Administration

14 CFR Part 39

[Docket No. FAA-2020-0987; Project Identifier MCAI-2020-01205-R; Amendment 39-21323; AD 2020-23-07]

RIN 2120-AA64

Airworthiness Directives; Leonardo S.p.a. Helicopters

AGENCY: Federal Aviation Administration (FAA), DOT.

ACTION: Final rule; request for comments.

SUMMARY: The FAA is adopting a new airworthiness directive for all Leonardo S.p.a. Model AB139 and AW139 helicopters. This AD requires removing certain emergency life raft (raft) reservoirs (reservoirs) from service, inspecting the reservoirs and raft actuator cables (actuator cables), and depending on the inspection results, replacing the reservoir or adjusting the actuator cable. This AD was prompted by the inadvertent activation and deployment of a raft while the helicopter was in flight. The actions of this AD are intended to address an unsafe condition on these products.

DATES: This AD becomes effective December 4, 2020.

The Director of the Federal Register approved the incorporation by reference of a certain document listed in this AD as of December 4, 2020.

The FAA must receive comments on this AD by January 4, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0987; or in person at Docket Operations between 9 a.m. and 5 p.m., Monday through Friday, except Federal holidays. The AD docket contains this AD, the European Union Aviation Safety Agency (EASA) AD, any service information that is incorporated by reference, any comments received, and other information. The street address for Docket Operations is listed above. Comments will be available in the AD docket shortly after receipt.

For service information identified in this final rule, contact Leonardo S.p.A. Helicopters, Emanuele Bufano, Head of Airworthiness, Viale G.Agusta 520, 21017 C.Costa di Samarate (Va) Italy; telephone +39-0331-225074; fax +39-0331-229046; or at https://www.leonardocompany.com/en/home. You may view the referenced service information at the FAA, Office of the Regional Counsel, Southwest Region, 10101 Hillwood Pkwy., Room 6N-321, Fort Worth, TX 76177. It is also available on the internet at https://www.regulations.gov by searching for and locating Docket No. FAA-2020-0987.

FOR FURTHER INFORMATION CONTACT: Daniel E. Moore, Aviation Safety Engineer, Regulations & Policy Section, Rotorcraft Standards Branch, FAA, 10101 Hillwood Pkwy., Fort Worth, TX 76177; telephone 817-222-5110; email daniel.e.moore@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The most helpful comments reference a specific portion of the AD, explain the reason for any recommended change, and include supporting data. To ensure the docket does not contain duplicate comments, commenters should send only one copy of written comments, or if comments are filed electronically, commenters should submit them only one time.

Except for Confidential Business Information (CBI) as described in the following paragraph, and other information as described in 14 CFR 11.35, the FAA will file in the docket all comments received, as well as a report summarizing each substantive public contact with FAA personnel concerning this rulemaking during the comment period. The FAA will consider all the comments received and may conduct additional rulemaking based on those comments.

Confidential Business Information

CBI is commercial or financial information that is both customarily and actually treated as private by its owner. Under the Freedom of Information Act (FOIA) (5 U.S.C. 552), CBI is exempt from public disclosure. If your comments responsive to this final rule contain commercial or financial information that is customarily treated as private, that you actually treat as private, and that is relevant or responsive to this final rule, it is important that you clearly designate the submitted comments as CBI. Please mark each page of your submission containing CBI as “PROPIN.” The FAA will treat such marked submissions as confidential under the FOIA, and they will not be placed in the public docket of this final rule. Submissions containing CBI should be sent to Daniel E. Moore, Aviation Safety Engineer, Regulations & Policy Section, Rotorcraft Standards Branch, FAA, 10101 Hillwood Pkwy., Fort Worth, TX 76177; telephone 817-222-5110; email daniel.e.moore@faa.gov. Any commentary that the FAA receives which is not specifically designated as CBI will be placed in the public docket for this rulemaking.

Discussion

EASA, which is the Technical Agent for the Member States of the European Union, has issued EASA AD No. 2020-0185, dated August 19, 2020, to correct an unsafe condition for Leonardo S.p.A. Helicopters, formerly Finmeccanica S.p.A, AgustaWestland S.p.A., Agusta S.p.A.; and AgustaWestland Philadelphia Corporation, formerly Agusta Aerospace Corporation Model AB139 and AW139 helicopters, all serial numbers, if equipped with emergency flotation kit part number (P/N) 4G9560F00111 (15 passengers) or P/N 4G9560F00211 (18 passengers). An inadvertent raft activation and deployment event occurred on a Model AW139 helicopter during flight. EASA advises that following the deployment, the raft separated from the helicopter and was lost at sea. EASA states that investigation is on-going into the cause of this event. Model AB139 helicopters are subject to the same unsafe condition due to design similarity to the AW139 helicopters. EASA advises that this condition, if not detected and corrected, may lead to further unintended activation and deployment of the raft in flight and separation with possible impact on the rotors, resulting in reduced control of the helicopter.

To address this unsafe condition, Leonardo Helicopters has issued Alert Service Bulletin No. 139-648, dated August 10, 2020 (ASB 139-648) to provide replacement instructions for certain reservoirs and a one-time inspection for all other reservoirs to verify that the actuator cable and the valve pull rod are correctly installed.

Accordingly, the EASA AD requires, for some helicopters, replacement of affected reservoirs and, for other helicopters, inspections of the valve pull rod and the actuator cable of the raft and, depending on findings, accomplishment of the applicable corrective action(s). The EASA AD also prohibits (re)installation of an affected reservoir on any helicopter.

FAA's Determination

These helicopters have been approved by EASA and are approved for operation in the United States. Pursuant to the FAA's bilateral agreement with the European Union, EASA has notified the FAA of the unsafe condition described in its AD. The FAA is issuing this AD after evaluating all of the information provided by EASA and determining the unsafe condition exists and is likely to exist or develop on other helicopters of the same type designs.

Related Service Information Under 1 CFR Part 51

The FAA reviewed ASB 139-648, which specifies procedures to replace certain reservoirs and return them to the supplier, inspect the measurement of the actuator cable between the face of the pull rod and the back of the valve cap, inspect the actuator cable by inspecting the clearance between the sphere at the end of the actuator cable and the activation system, and adjust the actuator cable.

This service information is reasonably available because the interested parties have access to it through their normal course of business or by the means identified in the ADDRESSES section.

AD Requirements

This AD requires the following:

• For helicopters with certain serial-numbered right-hand (RH) or left-hand (LH) reservoirs P/N 3G2560V01951 or P/N 3G2560V01251 installed, within 25 hours time-in-service (TIS), removing each affected reservoir from service.

• For helicopters with certain other serial-numbered RH or LH reservoirs P/N 3G2560V01951 or P/N 3G2560V01251 installed, within 25 hours TIS or before the reservoir accumulates 55 total hours TIS since first installation on a helicopter, whichever occurs later, inspecting the valve pull rod of each reservoir. If the measurement of the actuator cable between the face of the pull rod and the back of the valve cap exceeds 68.5 mm, this AD requires replacing the reservoir before further flight.

• For helicopters with certain other serial-numbered RH or LH reservoirs P/N 3G2560V01951 or P/N 3G2560V01251 installed, this AD requires, within 25 hours TIS, inspecting the actuator cable of each reservoir. If the clearance between the sphere at the end of the actuator cable and the activation system exceeds 5.0 + 0.00/−2.0 mm, this AD requires adjusting the actuator cable before further flight.

This AD also prohibits installing certain serial-numbered reservoirs P/N 3G2560V01951 or P/N 3G2560V01251 on any helicopter and prohibits installing any other serial-numbered reservoir P/N 3G2560V01951 or P/N 3G2560V01251 on any helicopter unless the actuator cable of the reservoir has been inspected, and if required, the actuator cable adjusted.

Differences Between This AD and the EASA AD

The EASA AD states one of the compliance times to inspect the valve pull rod is since installation of a serviceable reservoir due removal of an affected reservoir, whereas this AD does not. The EASA AD requires returning removed reservoirs to the supplier, whereas this AD requires removing certain reservoirs from service and replacing other certain reservoirs instead.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Costs of Compliance

The FAA estimates that this AD affects 130 helicopters of U.S. Registry. Labor rates are estimated at $85 per work-hour. Based on these numbers, the FAA estimates that operators may incur the following costs in order to comply with this AD.

Replacing a reservoir takes about 1 work-hour and parts cost about $400 for an estimated cost of $485 per reservoir.

Inspecting the valve pull rod of the reservoirs takes about 1 work-hour for an estimated cost of $85 per helicopter and $11,050 for the U.S. fleet.

Inspecting the actuator cables takes about 0.25 work-hour for an estimated cost of $21 per helicopter and $2,730 for the U.S. fleet. If required, adjusting an actuator cable takes about 0.75 work-hour for an estimated cost of $64 per cable.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because the required corrective actions must be completed within 25 hours TIS or before a component accumulates 55 total hours TIS since first installation on a helicopter, a short time period of about two months based on the average flight-hour utilization rate of these helicopters. Therefore, notice and opportunity for prior public comment are impracticable and contrary to public interest pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-23-07 Leonardo S.p.a.: Amendment 39-21323; Docket No. FAA-2020-0987; Project Identifier MCAI-2020-01205-R.

(a) Applicability

This airworthiness directive (AD) applies to Leonardo S.p.a. Model AB139 and AW139 helicopters, certificated in any category, with emergency flotation kit part number (P/N) 4G9560F00111 (15 passengers) or 4G9560F00211 (18 passengers).

(b) Unsafe Condition

This AD defines the unsafe condition as inadvertent activation and deployment of the emergency life raft (raft). This condition could result in the deployment of the raft during flight, separation of the raft with possible impact on the rotors, and subsequent reduced control of the helicopter.

(c) Effective Date

This AD becomes effective December 4, 2020.

(d) Compliance

You are responsible for performing each action required by this AD within the specified compliance time unless it has already been accomplished prior to that time.

(e) Required Actions

(1) For helicopters with a right-hand (RH) or left-hand (LH) life raft reservoir (reservoir) P/N 3G2560V01951 or P/N 3G2560V01251 and with a serial number (S/N) listed in Table 1 of the Leonardo Helicopters Alert Service Bulletin No. 139-648, dated August 10, 2020 (ASB 139-648), within 25 hours time-in-service (TIS), remove each affected reservoir from service.

(2) For helicopters with a RH or LH reservoir P/N 3G2560V01951 or P/N 3G2560V01251 and with an S/N not listed in Table 1 of ASB 139-648 installed, within 25 hours TIS or before the reservoir accumulates 55 total hours TIS since first installation on a helicopter, whichever occurs later, inspect the valve pull rod of each reservoir by following paragraphs 3. through 5.1, of the Accomplishment Instructions, part II, of ASB 139-648. If the measurement of the raft actuator cable (actuator cable) between the face of the pull rod and the back of the valve cap exceeds 68.5 mm, before further flight, replace the reservoir.

(3) For helicopters with a RH or LH reservoir P/N 3G2560V01951 or P/N 3G2560V01251 and with an S/N not listed in Table 1 of ASB 139-648 installed, within 25 hours TIS, inspect the actuator cable of each reservoir by following paragraphs 3. through 5.1, of the Accomplishment Instructions, part III, of ASB 139-648. If the clearance between the sphere at the end of the actuator cable and the activation system exceeds 5.0 +0.00/−2.0 mm, before further flight, adjust the life raft actuator cable by following Annex A of ASB 139-648.

(4) As of the effective date of this AD, do not install reservoir P/N 3G2560V01951 or P/N 3G2560V01251 with an S/N listed in Table 1 of ASB 139-648 on any helicopter.

(5) As of the effective date of this AD, do not install a reservoir P/N 3G2560V01951 or P/N 3G2560V01251 with an S/N other than an S/N listed in Table 1 of ASB 139-648 on any helicopter unless you have complied with the requirements in paragraph (e)(3) of this AD.

(f) Alternative Methods of Compliance (AMOCs)

(1) The Manager, Rotorcraft Standards Branch, FAA, may approve AMOCs for this AD. Send your proposal to: Daniel E. Moore, Aviation Safety Engineer, Regulations & Policy Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggest that you notify your principal inspector, or lacking a principal inspector, the manager of the local flight standards district office or certificate holding district office, before operating any aircraft complying with this AD through an AMOC.

(g) Additional Information

The subject of this AD is addressed in European Union Aviation Safety Agency (EASA) AD No. 2020-0185, dated August 19, 2020. You may view the EASA AD on the internet at https://www.regulations.gov by searching for and locating it in Docket No. FAA-2020-0987.

(h) Subject

Joint Aircraft Service Component (JASC) Code: 2560, Emergency Equipment, and 2564, Life Raft.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Leonardo Helicopters Alert Service Bulletin No. 139-648, dated August 10, 2020.

(ii) [Reserved]

(3) For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on November 10, 2020.
Lance T. Gant,
Director, Compliance & Airworthiness Division, Aircraft Certification Service.

[FR Doc. 2020-25470 Filed 11-18-20; 8:45 am]

BILLING CODE 4910-13-P